DEPARTMENT OF DEFENSE

Office of the Secretary

Defense Advisory Committee on Military Personnel Testing; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Defense Advisory Committee on Military Personnel Testing will take place.

DATES: Day 1—Open to the public Thursday, September 26, 2019 from 9:00 a.m. to 5:00 p.m. Day 2—Open to the public Friday, September 27, 2019 from 9:00 a.m. to 1:00 p.m.

ADDRESSES: Sonesta Rittenhouse Square, 1800 Market St., Philadelphia, PA, 19103.

FOR FURTHER INFORMATION CONTACT: Designated Federal Officer, Dr. Sofiya Velgach, (703) 697-9271 (Voice), 703 614-9272 (Facsimile), osd.pentagon.ousd-p-r.mbx.dacmpt@mail.mil (Email). Mailing address is Designated Federal Officer, Accession Policy, Office of the Under Secretary of Defense for Personnel and Readiness, Room 3D1066, The Pentagon, Washington, DC 20301-4000.

SUPPLEMENTARY INFORMATION: This meeting is being held under the provisions of the Federal Advisory Committee Act (FACA) of 1972 (5 U.S.C., Appendix, as amended), the Government in the Sunshine Act of 1976 (5 U.S.C. 552b, as amended), and 41 Code of Federal Regulations (CFR) 102-3.140 and 102-3.150. The agenda includes an overview of development timelines, test development strategies, and planned research for the next 3 years.

Purpose of the Meeting: The purpose of the meeting is to review planned changes and progress in developing selection and classification tests for military accession screening.

Agenda

Day 1, Thursday, September 26, 2019

9:00 a.m.—9:15 a.m. Welcome and Opening Remarks, Dr. Sofiya Velgach, OASD(M&RA)AP*

9:15 a.m.—9:45 a.m. Accession Policy Update, Ms. Stephanie Miller, Director, AP*

9:45 a.m.—10:15 a.m. Milestones and Project Schedules, Dr. Mary Pommerich, DPAC/OPA*

10:15 a.m.—10:30 a.m. Break

10:30 a.m.—11:15 a.m. Abstract Reasoning Evaluation, Dr. Furong Gao, HumRRO*

11:15 a.m.—12:00 p.m. Cloud 101, Mr. Matthew Ellis, Northrup Grumman

12:00 p.m.—1:00 p.m. Lunch

1:00 p.m.—1:30 p.m. Social Media Project Update, Dr. Tim McGonigle, HumRRO

1:30 p.m.—2:30 p.m. Automatic Item Generation, Dr. Isaac Bejar, ETS*

2:30 p.m.—2:45 p.m. Break

2:45 p.m.—3:45 p.m. CEP* Update, Dr. Shannon Salyer, DPAC/OPA*

3:45 p.m.—4:45 p.m. Evaluation of the FYI, Dr. Olga Fridman, DPAC/OPA*

4:45 p.m.—5:00 p.m. Public Comments

Day 2, Friday, September 27, 2019

9:00 a.m.—10:00 a.m. ASVAB* Validity Framework, Dr. Art Thacker, HumRRO*

10:00 a.m.—11:00 a.m. Criterion Measurement, Dr. Laura Ford, HumRRO*

11:00 a.m.—11:15 a.m. Break

11:15 a.m.—11:45 a.m. Navy Validation Business Model, Dr. Stephen Watson, NETC

11:45 a.m.—12:15 p.m. Standards Setting for ASVAB Technical Tests, Dr. Tia Fechter, DPAC/OPA*

12:15 p.m.—12:30 p.m. Future Topics, Dr. Dan Segall, DPAC/OPA*

12:30 p.m.—12:45 p.m. Public Comments

12:45 p.m.—1:00 p.m. Closing Comments, Dr. Michael Rodriguez, Chair *

Abbreviations Key

ASVAB = Armed Services Vocational Aptitude Battery

CEP = Career Exploration Program, provided free to high schools nation-wide to help students develop career exploration skills and used by recruiters identify potential applicants for enlistment

DPAC/OPA = Defense Personnel Assessment Center/Office of People Analytics

ETS = Educational Testing Service

FYI = Find Your Interests

HumRRO = Human Resources Research Organization

NETC = Naval Education Training Command OASD(M&RA)/AP = Office of the Assistant Secretary of Defense (Manpower & Reserve Affairs)/Accession Policy

Meeting Accessibility: Public's Accessibility to the Meeting: Pursuant to 5 U.S.C. 552b and 41 CFR 102-3.140 through 102-3.165, and the availability of space, this meeting is open to the public. Seating is based on first-come, first-served basis. All members of the public who wish to attend the public meeting must contact the Designated Federal Officer, not later than 12:00 p.m. on Monday, September 9, 2019, as listed in the FOR FURTHER INFORMATION CONTACT section.

Written Statements: Pursuant to 41 CFR 102-3.105(j) and 102-3.140 and section 10(a)(3) of the FACA, interested persons may submit written statements to the Committee at any time about its approved agenda or at any time on the Committee's mission. Written statements should be submitted to the Committee's Designated Federal Officer at the address or facsimile number listed in the FOR FURTHER INFORMATION CONTACT section. If statements pertain to a specific topic being discussed at the planned meeting, then these statements must be submitted no later than five (5) business days prior to the meeting in question. Written statements received after this date may not be provided to or considered by the Committee until its next meeting. The Designated Federal Officer will review all timely submitted written statements and provide copies to all the committee members before the meeting that is the subject of this notice. Please note that since the Committee operates under the provisions of the FACA, all submitted comments and public presentations will be treated as public documents and will be made available for public inspection. Opportunity for public comments will be provided at the end of the meeting. Public comments will be limited to 5 minutes per person, as time allows.

Dated: August 26, 2019.
Aaron T. Siegel,
Alternate OSD Federal Register Liaison Officer, Department of Defense.

[FR Doc. 2019-18678 Filed 8-28-19; 8:45 am]

BILLING CODE 5001-06-P